EXPORT-IMPORT BANK OF THE UNITED STATES

Content Policy

This notice is to inform the public that the Export-Import Bank of the United States is in the process of reviewing its content policy. A list of the questions and issues that the Bank is addressing can be accessed here: http://www.exim.gov/generalbankpolicies/content/2013-Content-Review.cfm.

The Bank is soliciting public comment on these questions and issues. Interested parties may submit comments on this document by email to content.review@exim.gov or by mail to 811 Vermont Avenue NW., Room 451, Washington, DC 20571, within 21 calendar days of the date this notice appears in the Federal Register.

Angela Mariana Freyre,
Senior Vice President and General Counsel.

[FR Doc. 2013-04879 Filed 2-27-13; 4:15 pm]

BILLING CODE 6690-01-P